DEPARTMENT OF HEALTH AND HUMAN SERVICES

Meeting Announcement for the Physician-Focused Payment Model Technical Advisory Committee Required by the Medicare Access and CHIP Reauthorization Act (MACRA) of 2015

ACTION: Notice of public meeting.

SUMMARY: This notice announces the next meeting date for the Physician-Focused Payment Model Technical Advisory Committee (hereafter referred to as “the Committee”) which will be held in Washington, DC and will be open to the public.

DATES: The PTAC meeting will occur on the following dates:

• Monday, June 5, 2017 from 9:00 a.m. to 4:00 p.m. ET

Please note that times are subject to change. If the times change, registrants will be notified directly via email.

ADDRESSES: The Hubert H. Humphrey Building Great Hall, 200 Independence Ave. SW., Washington, DC 20201.

FOR FURTHER INFORMATION CONTACT: Ann Page, Designated Federal Officer, at the Office of Health Policy, Assistant Secretary for Planning and Evaluation, U.S. Department of Health and Human Services, 200 Independence Ave. SW., Washington, DC 20201 (202) 690-6870.

SUPPLEMENTARY INFORMATION:

I. Purpose

The Physician-Focused Payment Model Technical Advisory Committee (“the Committee”) is required by Section 101(e) of the Medicare Access and CHIP Reauthorization Act of 2015 (MACRA). This Committee is also governed by provisions of the Federal Advisory Committee Act, as amended (5 U.S.C. App.), which sets forth standards for the formation and use of federal advisory committees. In accordance with its statutory mandate, the Committee is to review physician-focused payment model proposals and prepare recommendations regarding whether such models meet criteria that were established through rulemaking by the Secretary of Health and Human Services (the Secretary). The Committee is composed of 11 members appointed by the Comptroller General.

II. Agenda

At the June 5, 2017 meeting, the Committee will hear presentations by PTAC members on proposals for Medicare physician-focused payment models submitted by members of the public. Presentations will be followed by public comments and Committee deliberation and voting on recommendations to the Secretary of HHS. There will be time allocated for public comment on these agenda items as well as other issues the public would like to raise. Documents will be posted on the PTAC Web site prior to the public meeting. The agenda is subject to change. If the agenda does change, we will inform registrants and update our Web site to reflect any changes.

III. Meeting Attendance

The June 5, 2017 meeting is open to the public. The public may also attend via conference call or livestream at www.hhs.gov/live. The conference call dial-in information will be sent to registrants prior to the meeting.

Meeting Registration

The public may attend the meeting in-person or listen by phone via audio teleconference. Space is limited and registration is preferred in order to attend in-person or by phone. Registration may be completed online at www.regonline.com/PTACMeetingsRegistration.

The following information is submitted when registering:

Name:

Company/organization name:

Postal address:

Email address:

A confirmation email will be sent to the registrants shortly after completing the registration process.

IV. Special Accommodations

If sign language interpretation or other reasonable accommodation for a disability is needed, please contact Angela Tejeda, no later than May 19, 2017. Please submit your requests by email to Angela.Tejeda@hhs.gov or by calling 202-401-8297.

V. Copies of the PTAC Charter and Meeting Material

The Secretary's Charter for the Physician-Focused Payment Model Technical Advisory Committee is available on the ASPE Web site at https://aspe.hhs.gov/charter-physician-focused-payment-model-technical-advisory-committee.

Additional material for this meeting can be found on the PTAC Web site. For updates and announcements, please use the link to subscribe to the PTAC email listserv.

Dated: April 24, 2017.
John R. Graham,
Acting Assistant Secretary for Planning and Evaluation.

[FR Doc. 2017-08846 Filed 5-1-17; 8:45 am]

BILLING CODE 4150-05-P